DEPARTMENT OF THE INTERIOR

Bureau of Land Management

[LLNVS01000.L13400000.DJ0000 241A MO# 4500074734]

Notice of Extension of the Public Comment Period for the Notice of Availability of the Las Vegas and Pahrump Field Offices Draft Resource Management Plan and Environmental Impact Statement, Nevada

AGENCY: Bureau of Land Management, Interior.

ACTION: Notice.

SUMMARY: The Bureau of Land Management (BLM) published a Notice of Availability for the Las Vegas and Pahrump Field Offices Draft Resource Management Plan (RMP) and Draft Environmental Impact Statement (EIS) in the Federal Register on October 10, 2014 [FR Doc. 2014-24135] and announced the availability of these documents for public comment until January 7, 2015. In response to multiple requests and because the comment period includes the holiday season, the BLM is extending the public comment period for the Draft RMP and Draft EIS until February 6, 2015.

DATES: The comment period is extended to February 6, 2015.

ADDRESSES: You may submit comments related to the Las Vegas and Pahrump Field Offices Draft RMP/Draft EIS by any of the following methods:

• Web site: http://tinyurl.com/qzvaht7.

• Email: sndo_rmp_revision@blm.gov.

• Fax: 702-515-5023.

• Mail: BLM Southern Nevada District Office, Las Vegas/Pahrump Field Offices Draft RMP/Draft EIS, 4701 N. Torrey Pines Drive, Las Vegas, NV 89130.

Copies of the Las Vegas and Pahrump Field Offices Draft RMP/Draft EIS are available in the Southern Nevada District Office at the above address or on the following Web site http://tinyurl.com/qzvaht7.

FOR FURTHER INFORMATION CONTACT: Lee Kirk, RMP Team Lead, telephone: 702-515-5026; address: 4701 N. Torrey Pines Drive, Las Vegas, NV 89130; email: sndo_rmp_revision@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Las Vegas and Pahrump Field Offices Draft RMP/Draft EIS would replace the existing 1998 Las Vegas Field Office RMP. The Draft RMP/Draft EIS was developed through a collaborative planning process. The Las Vegas and Pahrump Field Offices Draft RMP/Draft EIS decision area encompasses approximately 3.1 million acres of public land administered by the BLM Southern Nevada District in Clark and Southern Nye counties, Nevada. It does not include private lands, State lands, Indian reservations, Federal lands not administered by BLM or lands addressed in the Red Rock Canyon National Conservation Area RMP (2005) and Sloan Canyon National Conservation Area RMP (2006). The Las Vegas and Pahrump Field Offices Draft RMP/Draft EIS includes goals, objectives and management actions for protecting and preserving natural resources which includes air quality, soil and water resources, vegetation, fish and wildlife, special status species, wild horses and burros, wildland fire management, cultural and paleontological resources, visual resource values, and lands with wilderness characteristics. Multiple resource uses are addressed which include management and forage allocations for livestock grazing; delineation of lands open, closed, or subject to special stipulations or mitigation measures for minerals development; recreation and travel management designations; management of lands and realty actions, including delineation of avoidance and exclusion areas applicable to rights-of-ways, land tenure adjustments, and solar and wind energy development. The planning effort will consider establishment of a national trail management corridor for the congressionally-designated Old Spanish National Historic Trail. Eligible river segments will be evaluated for suitability as components of the National Wild and Scenic River System and 23 new Areas of Critical Environmental Concern (ACECs) are proposed. The ACECs are proposed to protect natural and cultural resource values and traditional Native American use areas.

Authority: 40 CFR 1506.6, 40 CFR 1506.10, 43 CFR 1610.2.

Amy L. Lueders,
State Director, Nevada.

[FR Doc. 2014-29923 Filed 12-22-14; 8:45 am]

BILLING CODE 4310-HC-P